DEPARTMENT OF THE INTERIOR

Bureau of Land Management

[14XL LLIDB00100 LF1000000.HT0000 LXSS020D0000 241A 4500061567]

Notice of Temporary Closures on Public Lands in Owyhee County, Idaho

AGENCY: Bureau of Land Management, Interior.

ACTION: Notice of Temporary Route Closures.

SUMMARY: Notice is hereby given that temporary closures are in effect for the routes within the Hot Well Wildlife Tract on public lands administered by the Bruneau Field Office, Bureau of Land Management (BLM). The routes within the tract will be closed to motorized vehicle traffic to protect sensitive botanical resources.

DATES: The temporary closure will be in effect beginning July 9, 2014 and will remain in effect until August 8, 2016, or until rescinded or modified by the authorized officer or designated Federal officer. Future route management will be evaluated during travel management planning that will take place over the next two years.

FOR FURTHER INFORMATION CONTACT: For further information, contact Tanya Thrift, Bruneau Field Manager, at 3948 Development Avenue, Boise, Idaho, 83705, by email at tthrift@blm.gov, or by phone at 208-384-3300. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION:

Routes Closed to Motorized Vehicle Use

The Hot Well Wildlife Tract temporary closures affect routes crossing public lands located in Owyhee County, Idaho. The affected routes are found in:

T. 7 S., R. 5 E., Section 6, W½SE¼, Boise Meridian, Idaho

One route enters the wildlife tract from Cattle Drive Road then splits into two routes that join back together at the geothermal well. These routes are shown on the map named “Hot Well Wildlife Tract Temporary Route Closures,” and all portions (a total length of approximately 1 mile) will be closed under this temporary closure.

As documented in Categorical Exclusion Documentation (CX) No. DOI-BLM-ID-B20-2013-0004-CX, this action is in conformance with the 1983 Bruneau Management Framework Plan and is categorically excluded from further documentation under the National Environmental Policy Act (NEPA) in accordance with 516 DM 11.9 G(3), Temporary closure of roads and trails, as none of the extraordinary circumstances described in 516 DM 2 apply. The CX and Decision Record for this action were signed on March 12, 2014. The Hot Well Wildlife Tract is the only known location in Idaho for a BLM Sensitive plant, alkali cleomella (Cleomella plocasperma). Use of this wildlife tract for unauthorized social gatherings by some local residents is in conflict with Bruneau Management Framework Plan direction to manage the site for wildlife values (Decision W/L-4.2) and to protect and conserve special status plants (Objective RM-5). The documented high level of recreational use associated with the adjacent privately owned geothermal well and the associated large quantities of trash have resulted in the need for temporary route closures to protect threatened natural resources. These activities are damaging habitat for the sensitive plant and increasing the risk for population decline. Future route management will be evaluated in the forthcoming travel management plan. Estimated time for completion of this plan is the summer of 2016. The BLM will post a closure sign and place a locked metal gate at the north entry point on Cattle Drive Road. Pedestrian access to the Hot Well Wildlife Tract will still be allowed. These closures will also be posted in the BLM Boise District Office. Maps of the affected area and other documents associated with these closures are available at the BLM Boise District Office at 3948 Development Avenue, Boise, Idaho, 83705. Under the authority of Section 303(a) of the Federal Land Policy and Management Act of 1976 (43 U.S.C. 1733(a)), 43 CFR 8360.0-7, and 43 CFR 8364.1, the BLM will enforce the following rule within the Hot Well Wildlife Tract:

Motorized vehicles must not be used on closed routes.

Exemptions: Exempt from this closure are contractors hired by the BLM to work in the area; search and rescue personnel; Federal, State or local law enforcement officials; other BLM employees in the performance of their official duties; and persons with written authorization from the BLM.

Penalties: Any person who violates the above rule may be tried before a United States Magistrate and fined no more than $1,000, imprisoned for no more than 12 months, or both. Violators may also be subject to the enhanced fines provided for in 18 U.S.C. 3571.

Authority: 43 CFR 8364.1.

Tanya M. Thrift,
Bruneau Field Manager.

[FR Doc. 2014-13405 Filed 6-6-14; 8:45 am]

BILLING CODE 4310-GG-P